DEPARTMENT OF TRANSPORTATION

Federal Aviation Administration

Public Notice for Waiver of Aeronautical Land-use Assurance Aurora Municipal Airport, Sugar Grove, IL

AGENCY: Federal Aviation Administration, DOT.

ACTION: Notice of intent of waiver with respect to land.

SUMMARY: The Federal Aviation Administration (FAA) is considering a proposal to change a portion of airport land from aeronautical use to non-aeronautical use and to authorize the sale of the airport property. The proposal consists of a 0.1766-acre portion of Parcel 3 and a 0.9776 acre portion of Parcel 5, totaling 1.1542 acres. Presently the land is vacant and used as open land for control of FAR Part 77 surfaces and compatible land use and is not needed for aeronautical use, as shown on the Airport Layout Plan. The Parcels were acquired in 1988 with Federal participation. It is the intent of the City of Aurora, as owner and operator of the Aurora Municipal Airport (AMA), to sell the subject portions of Parcels 3 & 5 (1.1542 Acres) in fee to the Village of Sugar Grove, for the construction of Municipal Drive. AMA would, in return, receive land equivalent in acreage and value (a portion of Parcel 4) from the Village of Sugar Grove. This notice announces that the FAA is considering the proposal to authorize the disposal of the subject airport property at the Aurora Municipal Airport, Sugar Grove, IL. Approval does not constitute a commitment by the FAA to financially assist in disposal of the subject airport property nor a determination that all measures covered by the program are eligible for grant-in-aid funding from the FAA.

In accordance with section 47107(h) of Title 49, United States Code, this notice is required to be published in the Federal Register 30 days before modifying the land-use assurance that requires the property to be used for an aeronautical purpose.

DATES: Comments must be received on or before May 19, 2008.

ADDRESSES: Documents are available for review at the Airport Manager's office (Bob Rieser, Aurora Municipal Airport, 43 W 636 U.S. 30, Sugar Grove, IL 60554, Ph. 630-466-7000) and the FAA Airports District Office (Richard Pur, FAA, Chicago Airports District Office, 2300 E. Devon Ave., Des Plaines, IL 60018, Ph. 847-294-7527). Written comments on the Sponsor's request must be delivered or mailed to: Richard Pur, FAA, Chicago Airports District Office, 2300 E. Devon Ave., Des Plaines, IL 60018, Ph. 847-294-7527.

FOR FURTHER INFORMATION CONTACT: Richard Pur, Program Manager, 2300 East Devon Avenue, Des Plaines, IL 60018. Telephone Number 847-294-7527/Fax Number 847-294-7046.

SUPPLEMENTARY INFORMATION: Following is a legal description of the property located in Sugar Grove, Kane County, Illinois, and described as follows:

Portion of Parcel 3

That part of the east half of the Southeast Quarter of Section 17, Township 36 North, Range 7 East of the Third Principal Meridian described as follows: Commencing at the southeast corner of said Section 17; thence North 00 degrees 24 minutes 41 seconds West (assumed), along the east line of the Southeast Quarter of said Section 17, 1351.36 feet; thence South 89 degrees 35 minutes 19 seconds West, 80.00 feet to the west line of the east 80.00 feet of the north 1508.36 feet of the Southeast Quarter of said Section 17, for the Point of Beginning, thence South 00 degrees 24 minutes 41 seconds East, along said west line, 314.89 feet to the south line of the north 1508.36 feet of the Southeast Quarter of said Section 17; thence South 89 degrees 14 minutes 52 seconds West, 75.05 feet along said south line to a point on a curve; thence northerly along a curve to the left with radius of 700.00 feet, arc length of 327.11 feet, chord bearing North 12 degrees 56 minutes 33 seconds East, and chord length 324.14 feet to the Point of Beginning, in Sugar Grove Township, Kane County, Illinois. Containing 0.1766 acres, more or less.

Portion of Parcel 5

That part of the southerly 550.00 feet (except the east 80.00 feet) of the Northeast Quarter of Section 17, Township 36 North, Range 7 East of the Third Principal Meridian described as follows: Commencing at the southeast corner of the Northeast Quarter of said Section 17; thence South 89 degrees 14 minutes 54 seconds West (assumed), along the south line of the Northeast Quarter of said Section 17, 80.00 feet to the west line of the east 80.00 feet of the Northeast Quarter of said Section 17, and the Point of Beginning; thence north along a curve to the left with radius of 700.00 feet, arc length of 489.73 feet, chord bearing North 20 degrees 27 minutes 15 seconds West, and chord length of 479.81 feet to a point of tangency; thence North 40 degrees 29 minutes 48 seconds West, 127.82 feet to the north line of the northerly 438.36 feet of the southerly 550 feet of the Northeast Quarter of said Section 17; thence North 89 degrees 14 minutes 52 seconds East, along said north line, 242.69 feet to the west line of the east 80.00 feet of said Northeast Quarter; thence South 00 degrees 50 minutes 04 seconds East, along said west line, 550 feet to the Point of Beginning, in Sugar Grove Township, Kane County, Illinois. Containing 0.9776 acres, more or less.

The above described two parcels of land together contain 1.1542 acres, more or less.

Issued in Des Plaines, Illinois on April 9, 2008.
Mia Ratcliff,
Acting Manager, Chicago Airports District Office, FAA, Great Lakes Region.

[FR Doc. E8-8219 Filed 4-17-08; 8:45 am]

BILLING CODE 4910-13-M